DEPARTMENT OF HOMELAND SECURITY

Coast Guard

33 CFR Part 100

[Docket No. USCG-2019-0950]

Special Local Regulations; Charleston Harbor Christmas Parade of Boats, Charleston, SC

AGENCY: Coast Guard, DHS.

ACTION: Notice of enforcement of regulation.

SUMMARY: The Coast Guard will enforce the special local regulation for the Charleston Harbor Christmas Parade of Boats on December 14, 2019. This action is necessary to ensure safety of life on navigable waters of the United States during the Charleston Harbor Christmas Parade of Boats. During the enforcement period, no person or vessel may enter, transit through, anchor in, or remain within the designated area unless authorized by the Captain of the Port Charleston (COTP) or a designated representative.

DATES: The regulation in 33 CFR 100.701, Table to § 100.701, Item No. (g)(6) will be enforced from 4:00 p.m. until 8:30 p.m. on December 14, 2019.

FOR FURTHER INFORMATION CONTACT: If you have questions about this notice of enforcement, call or email LT Chad Ray, Sector Charleston Office of Waterways Management, Coast Guard; telephone (843) 740-3184, email Chad.L.Ray@uscg.mil.

SUPPLEMENTARY INFORMATION: The Coast Guard will enforce the special local regulation in 33 CFR 100.701, Item No. (g)(6), for the Charleston Harbor Christmas Parade of Boats from 4:00 p.m. through 8:30 p.m. on December 14, 2019. This action is being taken to provide for the safety of life on navigable waterways during this event. Our regulation for marine events within the Seventh Coast Guard District § 100.701, Item No. (g)(6), specifies the location of the regulated area for the Charleston Harbor Christmas Parade of Boats, which encompasses a portion of the waterways during the parade transit from Charleston Harbor Anchorage A through Bennis Reach, Horse Reach, Hog Island Reach, Town Creek Lower Reach, Ashley River, and finishing at City Marina. During the enforcement periods, as reflected in § 100.701(c)(1), if you are the operator of a vessel in the regulated area you must comply with directions from the Patrol Commander or any Official Patrol displaying a Coast Guard ensign.

In addition to this notice of enforcement in the Federal Register, the Coast Guard plans to provide notification of this enforcement period via the Local Notice to Mariners, Broadcast Notice to Mariners, and on-scene designated representatives.

Dated: December 9, 2019.
J.W. Reed,
Captain, U.S. Coast Guard, Captain of the Port Charleston.

[FR Doc. 2019-26822 Filed 12-12-19; 8:45 am]

BILLING CODE 9110-04-P